DEPARTMENT OF TRANSPORTATION

National Highway Traffic Safety Administration

[Docket No. NHTSA-2015-0062]

National Emergency Medical Services Advisory Council; Notice of Federal Advisory Committee Meeting

AGENCY: National Highway Traffic Safety Administration (NHTSA), U.S. Department of Transportation (DOT).

ACTION: Meeting notice—National Emergency Medical Services Advisory Council (NEMSAC).

SUMMARY: The NHTSA announces a meeting of the NEMSAC to be held in the Metropolitan Washington, DC, area. This notice announces the date, time, and location of the meeting, which will be open to the public, as well as opportunities for public input to the NEMSAC. The purpose of NEMSAC, a nationally recognized council of emergency medical services representatives and consumers, is to advise and consult with DOT and the Federal Interagency Committee on EMS (FICEMS) on matters relating to emergency medical services (EMS).

DATES: The NEMSAC meeting will be held on Thursday, July 30, 2015, from 9 a.m. to 5 p.m. EDT, and on Friday, July 31, 2015, from 8 a.m. to 12 p.m. EDT. A public comment period will take place on July 30, 2015, at approximately 4 p.m. EDT and on July 31, 2015, at approximately 10:45 a.m. EDT. Written comments for the NEMSAC from the public must be received no later than July 24, 2015.

ADDRESSES: The meetings will both be held at the Ronald Reagan Building and International Trade Center, 1300 Pennsylvania Avenue NW., Washington, DC 20004 in the Polaris Room.

FOR FURTHER INFORMATION CONTACT: Drew Dawson, Director, U.S. Department of Transportation, National Highway Traffic Safety Administration, Office of Emergency Medical Services, 1200 New Jersey Avenue SE., NTI-140, Washington, DC 20590, telephone 202-366-9966; email Drew.Dawson@dot.gov.

SUPPLEMENTARY INFORMATION: Notice of this meeting is given under the Federal Advisory Committee Act, Public Law 92-463, as amended (5 U.S.C. App.). The NEMSAC is authorized under Section 31108 of the Moving Ahead with Progress in the 21st Century Act of 2012.

Tentative Agenda of the National EMS Advisory Council Meeting

The tentative NEMSAC agenda includes the following:

Thursday, July 30, 2015 (9 a.m. to 5 p.m. EDT)

(1) Opening Remarks and Introductions by NEMSAC Members and Staff

(2) Disclosure of Conflicts of Interests by Members

(3) Remarks from the National Highway Traffic Safety Administration

(4) Remarks from FICEMS Chair Ed Gabriel

(5) Overview of the National EMS Advisory Council

(6) Overview of NEMSAC Recommendation Procedures

(7) Updates from Liaisons from the Departments of Transportation, Homeland Security, and Health & Human Services

(8) Review of Ongoing Work of NHTSA and FICEMS Agencies

(9) Public Comment Period (Approximately 4 p.m. EDT)

(10) Review of Previous Recommendations from NEMSAC

(11) Recess

Friday, July 31, 2015 (9 a.m. to 12 p.m. EDT)

(1) Discussion of Naloxone Use by EMS personnel

(2) Discussion of New and Emerging Issues from NEMSAC Members

(3) Public Comment Period (Approximately 10:45 a.m. EDT)

(4) Discussion of NEMSAC Focus Areas for 2015-2017

(5) Charge to the Council, Next Steps, Election of Chairman and Vice-Chairman and Adjourn

Registration Information: These meetings will be open to the public; however, pre-registration is requested. Individuals wishing to attend must register online at https://www.signup4.net/public/ap.aspx?EID=NEMS12E no later than July 24, 2015. For assistance with registration, please contact Noah Smith at Noah.Smith@dot.gov or 202-366-5030. There will not be a teleconference option for this meeting.

Public Comment: Members of the public are encouraged to comment directly to the NEMSAC during designated public comment periods as noted above. In order to allow as many people as possible to speak, speakers are requested to limit their remarks to 5 minutes. Written comments from members of the public will be distributed to NEMSAC members at the meeting and should reach the NHTSA Office of EMS no later than July 24, 2015. Written comments may be submitted by either one of the following methods: (1) You may submit comments by email: nemsac@dot.gov or (2) you may submit comments by fax: (202) 366-7149.

A final agenda as well as meeting materials will be available to the public online through www.EMS.gov on or before July 24, 2015.

Issued on: June 26, 2015.
Jeffrey P. Michael,
Associate Administrator for Research and Program Development.

[FR Doc. 2015-16174 Filed 6-30-15; 8:45 am]

BILLING CODE 4910-59-P